DEPARTMENT OF HEALTH AND HUMAN SERVICES

Administration for Children and Families

Submission for OMB Review; Comment Request

Title: Refugee Data Submission System for Formula Funds Allocations.

OMB No.: 0970-0043.

Description: The information collection of Refugee Data Submission System for Formula Funds Allocations replaces the ORR-11 Refugee State of Origin Report and is designed to satisfy the statutory requirements of the Immigration and Nationality Act (INA). Section 412(a)(3) of the Act requires the Director of the Office of Refugee Resettlement (ORR) to make a periodic assessment, based on refugee population and other relevant factors, of the relative needs of refugees for assistance and services and the resources available to meet those needs. This includes compiling and maintaining data on the secondary migration of refugees within the United States after arrival. Further, INA 412(c)(1)(B) states that formula funds shall be allocated based on the total number of refugees, taking into account secondary migration.

In order to meet the statutory requirements, ORR requires each state to submit disaggregated individual records containing certain data elements for eligible refugee populations. This revised collection differs from the ORR-11 Refugee State-of-Origin Report process, whereby states submitted the ORR-11 form containing aggregate data on the number of refugees and entrants served whose “area numbers” (the first three digits of the social security number) fell into each of several designated numerical ranges. ORR used the information on the ORR-11 to measure secondary migration for the purposes of formula funds allocation to states. The revision is proposed due to the realization that:

(1) The Social Security Administration states that the first three digits of social security numbers (area number) should not be used for any other purpose than as an individual identifier for book-keeping purposes.

(2) It is possible for individuals to apply for social security numbers from any social security office, not just offices in the state in which they were born or first resided. This is particularly likely in metropolitan statistical areas where individuals may live in one of several states (e.g., the Washington Metropolitan Area). In these cases, the area number of the social security number may be unreliable as a measure of refugees' state of initial resettlement.

(3) In recent years, the Social Security Administration has begun to issue social security numbers whose area number is not connected to any specific state. The submission of individual records via the Refugee Data Submission System for Formula Funds Allocations Web site is a more reliable and secure process for collecting data for the purposes of tracking secondary migration and allocating formula funds. Data submitted by the States via the secure Web site are compiled and analyzed by the ORR statistician for the purpose of refugee secondary services formula funds allocation. The statistician also prepares a summary report, which is included in ORR's Annual Report to Congress.

Respondents: States and the District of Columbia.

Annual Burden Estimates
Instrument | Number of respondents | Number of responses per respondent | Average burden hours per response | Total burden hours
Refugee Data Submission for Formula Funds Allocations | 50 | 1 | 20 | 1,000

Estimated Total Annual Burden Hours: 1,000.

Additional Information:

Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7285, Email: OIRA_SUBMISSION@OMB.EOP.GOV. Attn: Desk Officer for the Administration for Children and Families.

Robert Sargis,
Reports Clearance Officer.

[FR Doc. 2012-6224 Filed 3-14-12; 8:45 am]

BILLING CODE 4184-01-P